DEPARTMENT OF ENERGY

Federal Energy Regulatory Commission

Combined Notice of Filings #1

Take notice that the Commission received the following electric corporate filings:

Docket Numbers: EC16-193-000.

Applicants: Pioneer Wind Park I LLC.

Description: Application for Authorization under Section 203 of the Federal Power Act, Request for Expedited Consideration and Confidential Treatment of Pioneer Wind Park I, LLC.

Filed Date: 9/27/16.

Accession Number: 20160927-5154.

Comments Due: 5 p.m. ET 10/18/16.

Docket Numbers: EC16-194-000.

Applicants: Brady Wind, LLC, Brady Wind II, LLC, Brady Interconnection, LLC.

Description: Application for Authorization Under Section 203 of the Federal Power Act and Request for Expedited Action of Brady Wind, LLC, et al.

Filed Date: 9/27/16.

Accession Number: 20160927-5159.

Comments Due: 5 p.m. ET 10/18/16.

Take notice that the Commission received the following electric rate filings:

Docket Numbers: ER12-569-012; ER16-2453-001; ER16-2190-001; ER16-2191-001; ER15-1925-005; ER15-2676-004; ER16-1672-001; ER13-712-013; ER10-1849-011; ER11-2037-011; ER12-2227-011; ER10-1887-011; ER10-1920-013; ER10-1928-013; ER10-1952-011; ER10-1961-011; ER12-1228-013; ER16-2275-001; ER16-2276-001; ER14-2707-008; ER12-895-011; ER10-2720-013; ER11-4428-013; ER12-1880-012; ER16-2241-001; ER16-2297-001; ER15-58-006; ER14-2710-008; ER16-1440-002; ER16-2240-001; ER15-30-006; ER14-2708-009; ER14-2709-008; ER13-2474-007; ER11-4462-021; ER10-1971-030.

Applicants: Blackwell Wind, LLC, Brady Interconnection, LLC, Brady Wind, LLC, Brady Wind II, LLC, Breckinridge Wind Project, LLC, Cedar Bluff Wind, LLC, Chaves County Solar, LLC, Cimarron Wind Energy, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Kingman Wind Energy I, LLC, Kingman Wind Energy II, LLC, Mammoth Plains Wind Project, LLC, Minco Wind Interconnection Services, LLC, Minco Wind, LLC, Minco Wind II, LLC, Minco Wind III, LLC, Ninnescah Wind Energy, LLC, Osborn Wind Energy, LLC, Palo Duro Wind Interconnection Services, LLC, Palo Duro Wind Energy, LLC, Roswell Solar, LLC, Rush Springs Wind Energy, LLC, Seiling Wind Interconnection Services, LLC, Seiling Wind, LLC, Seiling Wind II, LLC, Steele Flats Wind Project, LLC, NEPM II, LLC, NextEra Energy Power Marketing, LLC.

Description: Notification of Non-material Change in Status of the NextEra Resources Entities, et al.

Filed Date: 9/27/16.

Accession Number: 20160927-5161.

Comments Due: 5 p.m. ET 10/18/16.

Docket Numbers: ER16-1363-001.

Applicants: Arizona Public Service Company.

Description: Compliance filing: Compliance Filing of Arizona Public Service Company to be effective 9/30/2016.

Filed Date: 9/28/16.

Accession Number: 20160928-5097.

Comments Due: 5 p.m. ET 10/19/16.

Docket Numbers: ER16-2023-001.

Applicants: California Independent System Operator Corporation.

Description: Compliance filing: 2016-09-28 Waiver Petition Delay Implementation of Flexible Ramping Product to be effective. N/A.

Filed Date: 9/28/16.

Accession Number: 20160928-5146.

Comments Due: 5 p.m. ET 10/19/16.

Docket Numbers: ER16-2467-001.

Applicants: NSTAR Electric Company.

Description: Tariff Amendment: Amendment—Notice of Cancellation of Exelon West Medway Design-Engineering Agmt to be effective 6/14/2016.

Filed Date: 9/28/16.

Accession Number: 20160928-5113.

Comments Due: 5 p.m. ET 10/19/16.

Docket Numbers: ER16-2676-000.

Applicants: PacifiCorp.

Description: Notice of Termination of LGIA SA 309 of PacifiCorp.

Filed Date: 9/27/16.

Accession Number: 20160927-5158.

Comments Due: 5 p.m. ET 10/18/16.

Docket Numbers: ER16-2677-000.

Applicants: Southwest Power Pool, Inc.

Description: § 205(d) Rate Filing: 3215R1 People's Electric Cooperative NITSA NOA to be effective 8/1/2016.

Filed Date: 9/28/16.

Accession Number: 20160928-5051.

Comments Due: 5 p.m. ET 10/19/16.

Docket Numbers: ER16-2678-000.

Applicants: Nevada Power Company.

Description: § 205(d) Rate Filing: OATT Revisions TOC, Definitions and Attachment P to be effective 11/1/2016.

Filed Date: 9/28/16.

Accession Number: 20160928-5057.

Comments Due: 5 p.m. ET 10/19/16.

Docket Numbers: ER16-2679-000.

Applicants: Terrapin Energy LLC.

Description: § 205(d) Rate Filing: Certificate of Concurrence Filing to be effective 9/20/2016.

Filed Date: 9/28/16.

Accession Number: 20160928-5059.

Comments Due: 5 p.m. ET 10/19/16.

Docket Numbers: ER16-2680-000.

Applicants: PacifiCorp.

Description: § 205(d) Rate Filing: OATT Revisions (Flexible Ramping Requirement) to be effective 11/1/2016.

Filed Date: 9/28/16.

Accession Number: 20160928-5067.

Comments Due: 5 p.m. ET 10/19/16.

Docket Numbers: ER16-2681-000.

Applicants: Southwest Power Pool, Inc.

Description: § 205(d) Rate Filing: Revisions to Attachment AE to Remove Interim TCR Process to be effective 11/28/2016.

Filed Date: 9/28/16.

Accession Number: 20160928-5149.

Comments Due: 5 p.m. ET 10/19/16.

Docket Numbers: ER16-2682-000.

Applicants: PJM Interconnection, L.L.C.

Description: § 205(d) Rate Filing: Second Revised ISA No. 3669, Queue No. Y3-046/Y3-051/Z1-058/Z2-059/Z2-002 to be effective 8/29/2016.

Filed Date: 9/28/16.

Accession Number: 20160928-5150.

Comments Due: 5 p.m. ET 10/19/16.

Docket Numbers: ER16-2683-000.

Applicants: El Paso Electric Company.

Description: Compliance filing: OATT Order No. 827 and 828 Compliance Filing to be effective 10/14/2016.

Filed Date: 9/28/16.

Accession Number: 20160928-5155.

Comments Due: 5 p.m. ET 10/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2016.
Nathaniel J. Davis, Sr.,
Deputy Secretary.

[FR Doc. 2016-23921 Filed 10-3-16; 8:45 am]

BILLING CODE 6717-01-P